DEPARTMENT OF INTERIOR

National Park Service

[NPS-WASO-NRSS-EQD-SSB-17014; PPAKGAARR4, PPMRSNR1Z.AM0000]

Proposed Information Collection; Economic Assessment of the Ambler Mining District Road Access Through Gates of the Arctic National Park and Preserve on Subsistence Users

AGENCY: National Park Service, Interior.

ACTION: Notice; request for comments.

SUMMARY: We (National Park Service) will ask the Office of Management and Budget (OMB) to approve the information collection (IC) concerning economic impacts of a proposed road to the Ambler Mining District, which would bisect Gates of the Arctic National Park and Preserve. As required by the Paperwork Reduction Act of 1995 and as part of our continuing efforts to reduce paperwork and respondent burden, we invite the general public and other federal agencies to take this opportunity to comment on this IC. A federal agency not conduct or sponsor, and a person is not required to respond to, a collection of information unless it displays a currently valid OMB control number.

DATE: To ensure that your comments on this IC are considered, we must receive them on or before December 26, 2014.

ADDRESSES: Direct all written comments on this IC to Phadrea Ponds, Information Collection Coordinator, National Park Service, 1201 Oakridge Drive, Fort Collins, CO 80525 (mail); or phadrea_ponds@nps.gov (email). Please reference Information Collection 1024-GAAR in the subject line.

FOR FURTHER INFORMATION CONTACT: Kyle Joly, National Park Service, Fairbanks, AK 99709; kyle_joly@nps.gov (email); or: 907-455-0626 (phone).

SUPPLEMENTARY INFORMATION:

I. Abstract

The State of Alaska is proposing to create an industrial mining road through the Preserve section of Gates of the Arctic National Park and Preserve. The National Park Service, in collaboration with the University of Alaska, is interested in understanding how the proposed road may economically impact area village residents (i.e., Bettles, Evansville, Wiseman, Allakakeet, Kobuk, Shungnak, and Ambler). A survey will be used to collect information concerning: (1) Current economic characteristics, (2) levels of subsistence harvest, and (3) opinions on impacts from the proposed road. This collection proposes to provide data that will be used to develop a legally-required Environmental and Economic Analysis. Up-to-date and relevant information is needed concerning the estimation of economic impact from the proposed road.

II. Data

OMB Number: None. This is a new collection.

Title: Recreational Use Survey.

Type of Request: New.

Affected Public: General public and individual households.

Respondent Obligation: Voluntary.

Frequency of Collection: One-time.

Estimated Number of Annual Responses: 200.

Annual Burden Hours: 67 hours. We estimate the public reporting burden to be 20 minutes per completed survey response.

Estimated Reporting and Recordkeeping “Non-Hour Cost” Burden: None.

III. Request for Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: October 22, 2014.
Madonna L. Baucum,
Information Collection Clearance Officer, National Park Service.

[FR Doc. 2014-25533 Filed 10-24-14; 8:45 am]

BILLING CODE 4310-EH-P